DEPARTMENT OF TRANSPORTATION

Surface Transportation Board

[STB Finance Docket No. 35068]

Soo Line Railroad Company d/b/a Canadian Pacific Railway—Acquisition and Operation Exemption—BNSF Railway Company

AGENCY: Surface Transportation Board, DOT.

ACTION: Notice of exemption.

SUMMARY: The Board grants an exemption, under 49 U.S.C. 10502, from the prior approval requirements of 49 U.S.C. 11323-25 for Soo Line Railroad Company d/b/a Canadian Pacific Railway's (CPR), a Class I rail carrier, acquisition and operation of BNSF Railway Company's (BNSF), a Class I rail carrier, property interests in 35.26 miles of rail lines that are jointly owned by CPR and BNSF and a contiguous 9.96-mile rail line that is solely owned by BNSF,¹ subject to labor protective conditions.

¹ In a related transaction, Dakota, Missouri Valley & Western Railroad, Inc. (DMVW), filed a verified notice of exemption to lease and operate, pursuant to an agreement with CPR, approximately 45 miles of rail line that CPR plans to acquire from BNSF and then lease to DMVW. See Dakota, Missouri Valley & Western Railroad, Inc.—Acquisition and Operation Exemption—Soo Line Railway Company d/b/a Canadian Pacific Railway, STB Finance Docket No. 35055 (STB served Aug. 10, 2007).

DATES: The exemption will be effective on September 7, 2007. Petitions to reopen must be filed by September 27, 2007.

ADDRESSES: An original and 10 copies of all pleadings, referring to STB Finance Docket No. 35068, must be filed with the Surface Transportation Board, 395 E Street, SW., Washington, DC 20423-0001. In addition, one copy of all pleadings must be served on petitioners' representatives: Karl Morell, Counsel for BNSF Railway Company, Ball Janik LLP, 1455 F Street, NW., Suite 225, Washington, DC 20005; Richard E. Weicher, BNSF Railway Company, 2500 Lou Menk Drive, Fort Worth, TX 76131-2828; and W. Karl Hansen, Leonard, Street and Deinard Professional Association, Counsel for Soo Line Railroad Company d/b/a Canadian Pacific Railway, 150 South Fifth Street, Suite 2300, Minneapolis, MN 55402.

FOR FURTHER INFORMATION CONTACT: Melissa Ziembicki, (202) 245-0386. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: August 29, 2007.
By the Board, Chairman Nottingham, Vice Chairman Buttrey, and Commissioner Mulvey.
Vernon A. Williams,
Secretary.

[FR Doc. E7-17578 Filed 9-6-07; 8:45 am]

BILLING CODE 4915-01-P